INTER-AMERICAN FOUNDATION

Sunshine Act Meetings; Correction

AGENCY: Inter-American Foundation.

ACTION: Notice, correction.

SUMMARY: The Inter-American Foundation is announcing a correction to the notice of meeting of the Advisory Council. This meeting was announced in the Federal Register of November 14, 2023. The meeting notice was published under the incorrect meeting authority.

FOR FURTHER INFORMATION CONTACT: Nicole Stinson, Associate General Counsel, (202) 683-7117 or nstinson@iaf.gov.

SUPPLEMENTARY INFORMATION:

Correction

In the Federal Register of November 14, 2023, in FR Doc. 2023-25176 (88 FR 78059), on page 78059, third column, correct the Title “Sunshine Act Meetings” and text “The Inter-American Foundation is holding this meeting under the Government in the Sunshine Act, 5 U.S.C. 552b” to read:

Federal Advisory Committee Act Meetings

The Inter-American Foundation is holding this meeting under the Federal Advisory Committee Act, 5 U.S.C. app. 1 Public Law 92-463.

Nicole Stinson,
Associate General Counsel.

[FR Doc. 2023-25638 Filed 11-16-23; 4:15 pm]

BILLING CODE 7025-01-P